DEPARTMENT OF ENERGY

Federal Energy Regulatory Commission

Combined Notice of Filings #1

Take notice that the Commission received the following electric rate filings:

Docket Numbers: ER10-1276-003; ER10-1292-002; ER10-1287-002; ER10-1303-002; ER10-1319-004; ER10-1353-004.

Applicants: Consumers Energy Company, CMS Energy Resource Management Company, Grayling Generation Station Limited Partnership, Genesee Power Station Limited Partnership, CMS Generation Michigan Power, LLC, Dearborn Industrial Generation, LLC.

Description: Updated Market Power Analysis of Consumer Energy Company, et. al.

Filed Date: 6/28/12.

Accession Number: 20120628-5178.

Comments Due: 5 p.m. ET 8/27/12.

Docket Numbers: ER10-1483-001.

Applicants: Dominion Energy Kewaunee, Inc.

Description: Market Power Analyses Report of Dominion Energy Kewaunee, Inc.

Filed Date: 6/29/12.

Accession Number: 20120629-5042.

Comments Due: 5 p.m. ET 8/27/12.

Docket Numbers: ER10-2739-004; ER10-2751-002; ER10-2742-002.

Applicants: Renaissance Power, LLC, Tilton Energy LLC, LS Power Marketing, LLC.

Description: Updated Market Power Analysis of LS Power Marketing, LLC, et. al.

Filed Date: 6/28/12.

Accession Number: 20120628-5179.

Comments Due: 5 p.m. ET 8/27/12.

Docket Numbers: ER12-60-003; ER10-1632-003; ER10-1616-001.

Applicants: New Covert Generating Company, LLC, Tenaska Power Services Co., Tenaska Power Management, LLC.

Description: Updated Market Power Analysis of Tenaska Power Management, LLC, et. al. under ER12-60, et. al.

Filed Date: 6/28/12.

Accession Number: 20120628-5177.

Comments Due: 5 p.m. ET 8/27/12.

Docket Numbers: ER12-1722-001.

Applicants: Midwest Independent Transmission System Operator, Inc.

Description: SIPC-Prairie State FCA Amendment (2) to be effective 5/8/2012.

Filed Date: 6/28/12.

Accession Number: 20120628-5152.

Comments Due: 5 p.m. ET 7/19/12.

Docket Numbers: ER12-1735-001.

Applicants: Midwest Independent Transmission System Operator, Inc.

Description: Midwest Independent Transmission System Operator, Inc. submits tariff filing per 35.17(b): GRE-City of Worthington Amendment to be effective 5/9/2012.

Filed Date: 6/29/12.

Accession Number: 20120629-5058.

Comments Due: 5 p.m. ET 7/20/12.

Docket Numbers: ER12-1762-001.

Applicants: Consolidated Edison Company of New York, Inc.

Description: Amendment to RDM target filing to be effective 5/11/2012.

Filed Date: 6/28/12.

Accession Number: 20120628-5159.

Comments Due: 5 p.m. ET 7/19/12.

Docket Numbers: ER12-2132-000.

Applicants: ITC Midwest LLC.

Description: Filing of Duane Arnold Energy Center Agreement to be effective 8/28/2012.

Filed Date: 6/28/12.

Accession Number: 20120628-5122.

Comments Due: 5 p.m. ET 7/19/12.

Docket Numbers: ER12-2133-000.

Applicants: New York Independent System Operator, Inc.

Description: Request for Limited Tariff Waivers of the New York Independent System Operator, Inc. for the Procurement of Black Start Service from TC Ravenswood, LLC on an interim basis; and Request for Shortened Comment Period and Expedited Action.

Filed Date: 6/28/12.

Accession Number: 20120628-5124.

Comments Due: 5 p.m. ET 7/6/12.

Docket Numbers: ER12-2134-000.

Applicants: PJM Interconnection, L.L.C.

Description: Original Service Agreement No. 3342; Queue No. W1-122 to be effective 6/18/2012.

Filed Date: 6/28/12.

Accession Number: 20120628-5128.

Comments Due: 5 p.m. ET 7/19/12.

Docket Numbers: ER12-2135-000.

Applicants: Orange and Rockland Utilities, Inc.

Description: Attachment K—Recharge NY Operating Agreement and Retail Transmission to be effective 7/1/2012.

Filed Date: 6/28/12.

Accession Number: 20120628-5136.

Comments Due: 5 p.m. ET 7/19/12.

Docket Numbers: ER12-2136-000.

Applicants: Pacific Gas and Electric Company.

Description: E&P Agreement for PG&E's Schindler 4 Project to be effective 6/29/2012.

Filed Date: 6/28/12.

Accession Number: 20120628-5143.

Comments Due: 5 p.m. ET 7/19/12.

Docket Numbers: ER12-2137-000.

Applicants: GenOn Florida, LP.

Description: Revised Market-Based Rate Tariff to be effective 7/1/2012.

Filed Date: 6/28/12.

Accession Number: 20120628-5155.

Comments Due: 5 p.m. ET 7/19/12.

Docket Numbers: ER12-2138-000.

Applicants: GenOn Power Midwest, LP.

Description: Revised Market-Based Rate Tariff to be effective 7/1/2012.

Filed Date: 6/28/12.

Accession Number: 20120628-5156.

Comments Due: 5 p.m. ET 7/19/12.

Docket Numbers: ER12-2139-000.

Applicants: GenOn Wholesale Generation, LP.

Description: Revised Market-Based Rate Tariff to be effective 7/1/2012.

Filed Date: 6/28/12.

Accession Number: 20120628-5157.

Comments Due: 5 p.m. ET 7/19/12.

Docket Numbers: ER12-2140-000.

Applicants: RRI Energy Services, LLC.

Description: Revised Market-Based Rate Tariff to be effective 7/1/2012.

Filed Date: 6/28/12.

Accession Number: 20120628-5158.

Comments Due: 5 p.m. ET 7/19/12.

Docket Numbers: ER12-2141-000.

Applicants: NorthWestern Corporation.

Description: Revised Rate Schedule 188—Colstrip 1 & 2 Transmission Agreement to be effective 9/1/2012.

Filed Date: 6/29/12.

Accession Number: 20120629-5004.

Comments Due: 5 p.m. ET 7/20/12.

Docket Numbers: ER12-2142-000.

Applicants: NorthWestern Corporation.

Description: Service Agreement No. 641—United Grain Corporation to be effective 6/29/2012.

Filed Date: 6/29/12.

Accession Number: 20120629-5005.

Comments Due: 5 p.m. ET 7/20/12.

Docket Numbers: ER12-2143-000.

Applicants: PJM Interconnection, LLC.

Description: PJM Interconnection, LLC submits tariff filing per 35.13(a)(2)(iii): Filing of First Revised Service Agreement No. 3262; Queue No. W4-068 to be effective 6/7/2012.

Filed Date: 6/29/12.

Accession Number: 20120629-5055.

Comments Due: 5 p.m. ET 7/20/12.

Docket Numbers: ER12-2144-000.

Applicants: ITC Midwest LLC.

Description: ITC Midwest LLC submits tariff filing per 35.13(a)(2)(iii): Filing of Notice of Succession to be effective 8/29/2012.

Filed Date: 6/29/12.

Accession Number: 20120629-5061.

Comments Due: 5 p.m. ET 7/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2012.
Nathaniel J. Davis, Sr.,
Deputy Secretary.

[FR Doc. 2012-16867 Filed 7-10-12; 8:45 am]

BILLING CODE 6717-01-P